DEPARTMENT OF COMMERCE

International Trade Administration

[A-570-868]

Notice of Postponement of Preliminary Antidumping Duty Determination: Folding Metal Tables and Chairs From the People's Republic of China

AGENCY: Import Administration, International Trade Administration, Department of Commerce.

EFFECTIVE DATE: October 4, 2001.

FOR FURTHER INFORMATION CONTACT: Helen Kramer or Steve Bezirganian at (202) 482-0405 and (202) 482-1131, respectively, Import Administration, International Trade Administration, U.S. Department of Commerce, 14th Street and Constitution Avenue, NW, Washington, DC 20230.

Postponement of Preliminary Determinations

The Department of Commerce (the Department) is postponing the preliminary determination in the antidumping duty investigation of Folding Metal Tables and Chairs from the People's Republic of China. The deadline for issuing the preliminary determination in this investigation is now November 5, 2001.

On May 24, 2001, the Department initiated an antidumping investigation of Folding Metal Tables and Chairs from the People's Republic of China. See Initiation of Antidumping Duty Investigation: Folding Metal Tables and Chairs from the People's Republic of China, 66 FR 28728. The notice stated that the Department would issue its preliminary determination no later than 140 days after the date of initiation (i.e., October 4, 2001).

On September 5, 2001, the petitioner, Meco Corporation, requested a thirty-day postponement of the preliminary determination, in accordance with section 351.205(e) of the Department's regulations, to allow sufficient time to submit comments on the respondents' questionnaire responses and for the Department to analyze the respondents' data and issue supplemental questionnaires. Therefore, pursuant to section 733(c)(1)(A) of the Tariff Act of 1930, as amended, and section 351.205(e) of the regulations, and absent any compelling reason to deny the request, the Department is postponing the deadline for issuing this determination 30 days (i.e., until November 5, 2001).

Dated: September 25, 2001.
Faryar Shirzad,
Assistant Secretary for Import Administration.

[FR Doc. 01-24926 Filed 10-3-01; 8:45 am]

BILLING CODE 3510-DS-P